DEPARTMENT OF HEALTH AND HUMAN SERVICES

Health Resources and Services Administration

Special Projects of National Significance Targeted HIV Outreach and Intervention Model Development; Evaluation and Program Support Center

AGENCY: Health Resources and Services Administration, HHS.

ACTION: Notice of availability of funds.

SUMMARY: The Health Resources and Services Administration (HRSA) announces the availability of fiscal year (FY) 2001 funds to be awarded under the Special Projects of National Significance (SPNS) program for discretionary grants, under a new competition that supports the development and evaluation of models of targeted HIV outreach and intervention for under-served HIV-positive populations not in care. The purpose of this new grant initiative is to support multi-year projects that will refine and evaluate programs that identify individuals who are HIV-positive and not in health care and engage them in comprehensive and continual health care, and develop an evaluation and program support center to provide advice and technical assistance to the funded multi-year projects regarding program refinement and evaluation. Special emphasis is placed on reaching individuals from communities of color and under-served populations.

The SPNS program is authorized by section 2691 of the Public Health Service Act. Grants may be awarded directly to public and non-profit private entities, including community-based organizations. The program has $3.5 million dollars available for this initiative. HRSA expects to make approximately 15 awards for demonstration projects and one award for the Evaluation and Program Support Center. The budget and project periods for approved and funded projects will begin on or about September 30, 2001. Funds for Category I awards must be requested for the initial two years. Funds for Category II must be requested for all five years.

Funds will be awarded in two categories. In the first category (Category I), HRSA expects to award approximately fifteen (15) grants for the development and evaluation of models of targeted HIV outreach and intervention for under-served HIV-positive populations not in care. It is anticipated that in the first two years (Phase 1), each Category I site will be awarded $200,000 per year. For those study sites approved for continuation in years three through five (Phase 2), up to $400,000 per year will be available. All Category I grantees will be eligible to submit a competitive grant application during the second year for continuation funding for years three through five (Phase 2).

In the second category (Category II), HRSA expects to award one award up to $500,000 per year for a five-year project period to support an Evaluation and Program Support Center. This Center will work with grantees to develop an overall multi-site evaluation of the grant initiative and provide technical support to grantees on program development and evaluation issues.

Eligible applicants under Categories I and II may include, but are not limited to, State, local, or tribal public health, mental health, housing, or substance abuse departments; public or non-profit hospitals and medical facilities; community-based service organizations (e.g., AIDS service organizations, community and migrant health centers funded by HRSA's Bureau of Primary Health Care, other primary health care clinics, family planning centers, AIDS anti-discrimination and advocacy organizations, homeless assistance providers, hemophilia centers, community health or mental health centers, substance abuse treatment centers, urban and tribal Indian health centers or facilities, migrant health centers, etc.), institutions of higher education, and national service provider and/or policy development associations and organizations.

Outreach projects proposed in Category I should seek to improve participation by HIV infected persons in HIV counseling and testing, diagnosis, prophylaxis, and treatment of manifestations and complications of HIV infection and AIDS, including: (a) Antiretroviral therapy, and (b) prophylactic therapy for opportunistic infections, including tuberculosis. Models of care should target under served populations and determine: the spectrum of HIV disease among treated and untreated HIV-infected persons (upon entry into care), the progression of HIV disease, adherence to antiretroviral treatment and PCP prophylaxis, and the impact of the model of care upon these parameters longitudinally. Models should include links to HIV counseling and testing services.

During Phase 1 of the program (project years 1-2), Category I grantees are expected to continue to provide their existing outreach services while engaging in planning activities for the implementation and evaluation of an intervention during Phase 2 (project years 3-5) which may be: (1) A refinement and/or expansion of the intervention being implemented during Phase 1; or (2) a new intervention which was not being implemented during Phase 1. Phase 2 continuation awards will be made based on review by an external objective review committee which will use review criteria that is expected to consist of the Category I grantees' implementation of Phase 1 activities, success in implementing local and cross-site evaluation activities during Phase 1, and their ability to incorporate local and cross-site evaluation activities into the proposed Phase 2 scope of work.

The SPNS program is designed to demonstrate and evaluate innovative and replicable HIV service delivery models. The authorizing legislation specifies three SPNS program objectives: (1) To support the development of innovative models of HIV care; (2) to evaluate the effectiveness of innovative program designs; and (3) to promote replication of effective models. Therefore, crucial factors in appraising proposals for outreach demonstration models will include, among other factors, the degree to which the applicant's plan improves access to and use of health care by individuals from vulnerable subpopulations and historically under-served communities by identifying: (a) Proactive strategies for bringing minority and under served populations into health care when they are in early stages of HIV disease; (b) models that transform sporadic users of health care into regular and continual users of health care; and (c) effective methods to support and retain clients in health care.

DATES: Letters of Intent, to allow HRSA to plan for the Objective Review Process, are encouraged from all applicants. Such letters should be sent to: Barbara Aranda-Naranjo, PhD, RN, FAAN, Branch Chief, ATTN: 2001 New HAB Competitive Initiative, Demonstration Program and Evaluation Branch, HIV/AIDS Bureau, Health Resources and Services Administration, Parklawn Building, Room 7C-07, 5600 Fishers Lane, Rockville, MD 20857 or faxed to: 301/443-4965. Such letters should be received by SPNS within 30 days after the publication of this Notice of Availability of Funds in the Federal Register. Receipt of these notices of intent will not be routinely acknowledged.

Applications must be received in the HRSA Grant Application Center (GAC) by the close of business June 4, 2001 to be considered for competition. Applications will meet the deadline if they are either (1) received on or before the deadline date or (2) postmarked on or before the deadline date, and received in time for submission to the objective review panel. A legibly dated receipt from a commercial carrier or U.S. Postal Service will be accepted instead of a postmark. Private metered postmarks shall not be accepted as proof of timely mailing. Applications not accepted for processing will be returned to the applicant and will not be considered for funding.

ADDRESSES: The official grant application kit and guidance materials for this announcement may be obtained from the HRSA Grants Application Center, Attn: CFDA 93.928, 1815 N. Fort Meyer Drive, Suite 300, Arlington, VA 22209; telephone 877-477-2123, e-mail address HRSA.GAC@hrsa.gov. Applicants are strongly advised to obtain the Guidance before preparing applications. Please mail completed applications to the HRSA Grants Application Center, previously described. Applicants for grants will use Revised Form PHS 5161-1, approved under OMB Control No. 0937-0189. This form may also be downloaded from the DHHS Program Support Center (PSC) website at: http://forms.psc.gov/forms/. All applications submitted to the SPNS program will be reviewed and rated by an objective review panel. Interested parties may access the guidance only on HRSA's web site at www.hrsa.hab.gov/grants.html.

FOR FURTHER INFORMATION CONTACT: Additional information regarding business, administrative, and fiscal issues related to the awarding of grants under this Notice may be requested from Ms. Janice Gordon, Grants Management Officer, HIV/AIDS Bureau, Health Resources and Services Administration, Parklawn Building, Room 7-89, 5600 Fishers Lane, Rockville, MD 20857; telephone 301/443-2385; fax 301/594-6096; e-mail address JGordon@hrsa.gov.

Additional information related to technical and program issues regarding the overall SPNS Program may be requested from Barbara Aranda-Naranjo, PhD, RN, FAAN, Branch Chief, ATTN: 2001 New Competitive Initiative, Demonstration Program and Evaluation Branch, HIV/AIDS Bureau, Health Resources and Services Administration, Parklawn Building, Room 7C-07, 5600 Fishers Lane, Rockville, MD 20857; telephone 301/443-4149; fax 301/443-4965; e-mail address BAranda-Naranjo@hrsa.gov.

Technical assistance regarding this funding announcement, may be requested from John Hannay, Special Program Consultant, Demonstration Program and Evaluation Branch, HIV/AIDS Bureau, Health Resources and Services Administration, Parklawn Building, 5600 Fishers Lane, Room 7C-07, Rockville, MD 20857; tel. 301/443-0232; fax 410/730-6061; e-mail address SPNSOutreach2001@aol.com.

Healthy People 2010 Objectives

The Public Health Service urges applicants to address at least one of the Healthy People 2010 objectives in their work plans. Potential applicants may obtain a copy of Healthy People 2010 (Full Report) or Healthy People 2010 (Summary Report) through the Superintendent of Documents, Government Printing Office, Washington, DC 20402-9325 (Web site: http://www.access.gpo.gov; telephone: 202/512-1800).

SUPPLEMENTARY INFORMATION:

Background and Objectives

The SPNS program endeavors to advance knowledge and skills in HIV service delivery, to stimulate the design of innovative models of care, and to support the development of effective delivery systems for these services. SPNS accomplishes its purpose through funding, technical support and evaluation of innovative HIV service delivery models. HRSA has found that access to highly active antiretroviral therapy (HAART) and other care modalities reduces morbidity and mortality among people living with HIV, and that certain groups, particularly racial and ethnic minorities and women, have not benefited from such access and care as much as others. The reasons for these disparities are not well understood. They may include patients' awareness of available services, their understanding of when and how to use different components of the health care system, and their life concerns and priorities. The reasons may also include clinician characteristics and the organizational structures of health service providers. This announcement seeks applications from community-based programs that address the characteristics of targeted populations and the interactions between clients and their providers, and offer potential solutions to engaging minorities into care early in the course of HIV infection and achieving their consistent use of care. Further, the announcement seeks applications for an evaluation and program support center to work with grantees funded under Category I.

This SPNS program encourages innovative projects to rigorously evaluate implementation, utilization, costs, and process and health outcomes. Proposed process and outcomes evaluation designs by demonstration project grantees (Category I) will form the basis for the cross-site evaluation conducted by the awardee in Category II. SPNS funds should be used to create models of outreach that would likely not exist without SPNS support, or would extend HIV services to previously under-served populations defined either geographically or demographically. Services provided through SPNS funding should currently not be reimbursed or eligible for current reimbursement through other sources, including Medicaid, third party payers, or other Ryan White programs. A model may deliver services or products that are reimbursable, but the services supported by SPNS should not be.

Eligible Applicants

The statute, section 2691(a) specifies that grants may be awarded to public and non-profit private entities to fund special programs for the care and treatment of people with HIV disease. Eligible applicants may include, but are not limited to, State, local, or tribal public health, mental health, housing, or substance abuse departments; public or non-profit hospitals and medical facilities; community-based service organizations (e.g., AIDS service organizations, community and migrant health centers funded by HRSA's Bureau of Primary Health Care, other primary health care clinics, family planning centers, AIDS anti-discrimination and advocacy organizations, homeless assistance providers, hemophilia centers, community health or mental health centers, substance abuse treatment centers, urban and tribal Indian health centers or facilities, migrant health centers, etc.), institutions of higher education, and national service provider and/or policy development associations and organizations. Additionally, applicants in Category I must demonstrate experience in providing outreach services or other programs that are providing or linking HIV-infected individuals from these under-served and vulnerable subpopulations with appropriate primary care and ancillary services on a regular basis.

Public Health System Reporting Requirements

This program is also subject to the Public Health System Reporting Requirements which have been approved by the Office of Management and Budget under No. 0937-0195. Under these requirements, any community-based, non-governmental applicant must prepare and submit a Public Health System Impact Statement (PHSIS). The PHSIS is intended to keep State and local health officials appraised of proposed health services grant applications submitted from within their jurisdictions.

Executive Order 12372

The Special Projects of National Significance Grant Program has been determined to be a program subject to the provisions of Executive Order 12372, concerning intergovernmental review of Federal Programs, as implemented by 45 CFR Part 100.

The OMB Catalog of Federal Domestic Assistance number for the Special Projects of National Significance is 93.928.

Dated: April 9, 2001.
Elizabeth M. Duke,
Acting Administrator.

[FR Doc. 01-9162 Filed 4-12-01; 8:45 am]

BILLING CODE 4160-15-U